DEPARTMENT OF JUSTICE

Office of Justice Programs

[OJP (NIJ) Docket No. 1466]

Announcement of Body Armor Standards and Testing Technical Workshop

AGENCY: National Institute of Justice, Office of Justice Programs, Justice.

ACTION: Announcement of public technical workshop.

SUMMARY: The U.S. Department of Justice, Office of Justice Programs, National Institute of Justice (NIJ) will hold a technical workshop in order to discuss, and obtain comments and technical input on, draft changes being considered for the NIJ standard for ballistic-resistance of personal body armor and for NIJ's voluntary body armor compliance testing program, including its activities generally related to conformity assessment. The workshop is jointly sponsored by NIJ and the U.S. Department of Commerce, National Institute of Standards and Technology (NIST), Office of Law Enforcement Standards.

The technical workshop will be open to body armor industry technical representatives, official representatives from public safety agencies and organizations, the research and development and scientific communities, and other stakeholders. We plan to make certain documents related to the draft changes under consideration available for review approximately two weeks prior to the workshop. Information about the availability of these documents can be found on the Web site referenced below.

Those individuals wishing to attend this workshop and/or provide comment or input as to the draft changes under consideration are directed to the following Web site: http://www.justnet.org/nijnist. To attend the workshop, individuals must register online by February 16, 2007 (non-U.S. citizens) or by February 21, 2007 (U.S. Citizens). Due to NIST security regulations, there will be no on-site registration allowed on the day of the workshop. No registration fee is required for this event. Directions to the facility and additional information can be found on the Web site.

DATES: The workshop will be held on Tuesday, February 27, 2007, from 8:30 a.m. to 4:30 p.m.

ADDRESSES: The meeting will take place at the National Institute of Standards and Technology (NIST), 100 Bureau Drive, Gaithersburg, MD 20899.

FOR FURTHER INFORMATION CONTACT: James Wong, by telephone at 202-305-2703 [Note: this is not a toll-free telephone number], or by e-mail at James.Wong@usdoj.gov.

Dated: February 9, 2007.
David W. Hagy,
Deputy Assistant Attorney General, Office of Justice Programs and Acting Principal Deputy Director, National Institute of Justice.

[FR Doc. E7-2522 Filed 2-13-07; 8:45 am]

BILLING CODE 4410-18-P